DEPARTMENT OF COMMERCE

National Oceanic and Atmospheric Administration

50 CFR Part 635

RIN 0648-BB02

Atlantic Highly Migratory Species; 2006 Consolidated Highly Migratory Species Fishery Management Plan; Amendment 9

AGENCY: National Marine Fisheries Service (NMFS), National Oceanic and Atmospheric Administration (NOAA), Department of Commerce.

ACTION: Notice of public hearings.

SUMMARY: On August 7, 2014, NMFS published a proposed rule on Draft Amendment 9 to the 2006 Consolidated Highly Migratory Species (HMS) Fishery Management Plan (FMP) to consider management measures in the smoothhound shark and other Atlantic shark fisheries. As described in the proposed rule, NMFS is proposing measures that would: (1) Establish an effective date for previously-adopted smoothhound shark management measures finalized in Amendment 3 to the 2006 Consolidated HMS FMP (Amendment 3) and the 2011 HMS Trawl Rule; (2) increase the smoothhound shark annual quota previously finalized in Amendment 3 using updated landings data; (3) implement the smooth dogfish-specific provisions in the Shark Conservation Act of 2010 (Pub. L. 111-348) (SCA); (4) implement the Atlantic shark gillnet requirements of a 2012 Shark Biological Opinion; and (5) modify current regulations related to the use of vessel monitoring systems (VMS) by Atlantic shark fishermen using gillnet gear. In this notice, NMFS announces the dates and logistics for two public hearings and two webinars to provide the opportunity for public comment on measures described in the proposed rule and Draft Amendment 9.

DATES: Written comments will be accepted until November 14, 2014. The public hearings and webinars will occur between September 24, 2014, and November 4, 2014. See SUPPLEMENTARY INFORMATION for dates, times, and locations.

ADDRESSES: A total of two public hearings (Toms River, NJ, and Manteo, NC) and two webinars will be held to provide the opportunity for public comment. See SUPPLEMENTARY INFORMATION for dates, times, and locations.

You may submit comments on the proposed rule identified by “NOAA-NMFS-2014-0100,” by any of the following methods:

• Electronic Submissions: Submit all electronic public comments via the Federal eRulemaking Portal. Go to www.regulations.gov/#!docketDetail;D=NOAA-NMFS-2014-0100, click the “Comment Now!” icon, complete the required fields, and enter or attach your comments.

• Mail: Submit written comments to: Margo Schulze-Haugen, NMFS/SF1, 1315 East West Highway, National Marine Fisheries Service, SSMC3, Silver Spring, MD 20910. Instructions: Please include the identifier NOAA-NMFS-2014-0100 when submitting comments. Comments sent by any other method, to any other address or individual, or received after the close of the comment period, may not be considered by NMFS. All comments received are a part of the public record and generally will be posted for public viewing on www.regulations.gov without change. All personal identifying information (e.g., name, address), confidential business information, or otherwise sensitive information submitted voluntarily by the sender will be publicly accessible. NMFS will accept anonymous comments (enter “N/A” in the required fields if you wish to remain anonymous). Attachments to electronic comments will be accepted in Microsoft Word, Excel, or Adobe PDF file formats only. Written comments regarding the burden-hour estimates or other aspects of the collection-of-information requirements contained in this proposed rule may be submitted to the Atlantic Highly Migratory Species Management Division by email to OIRA_Submission@omb.eop.gov, or fax to 202-395-7285.

FOR FURTHER INFORMATION CONTACT: LeAnn Hogan, Steve Durkee or Alexis Jackson at 301-427-8503.

SUPPLEMENTARY INFORMATION: Atlantic sharks, including smoothhound sharks, are managed under the authority of the Magnuson-Stevens Fishery Conservation and Management Act (Magnuson-Stevens Act), and the authority to issue regulations has been delegated from the Secretary to the Assistant Administrator (AA) for Fisheries, NOAA. Management of these species is described in the 2006 Consolidated HMS FMP and its amendments, which are implemented by regulations at 50 CFR part 635. Copies of the 2006 Consolidated HMS FMP and previous amendments are available from the Highly Migratory Species Management Division Web page at http://www.nmfs.noaa.gov/sfa/hms/documents/fmp/index.html or from NMFS on request (see FOR FURTHER INFORMATION CONTACT).

On August 7, 2014, NMFS published a proposed rule on Draft Amendment 9 to the 2006 Consolidated HMS FMP to consider management measures in the smoothhound and shark fisheries (79 FR 46217). As described in the proposed rule, NMFS is proposing measures that would: (1) Establish an effective date for previously-adopted smoothhound shark management measures finalized in Amendment 3 (75 FR 30484) and the 2011 HMS Trawl Rule (76 FR 49368); (2) increase the smoothhound shark annual quota previously finalized in Amendment 3 using updated landings data; (3) implement the smooth dogfish-specific provisions in the SCA; (4) implement the Atlantic shark gillnet requirements of a 2012 Shark Biological Opinion; and 5) modify current regulations related to the use of VMS by Atlantic shark fishermen using gillnet gear. The SCA requires that all sharks landed from Federal waters in the United States be landed with their fins naturally attached to the carcass, but included a limited exception for smooth dogfish.

The call-in information for the webinar on September 24, 2014, is phone number 1-888-955-8966; participant pass code 5372339. Participants can join the webinar at https://noaa-meets.webex.com/noaa-meets/j.php?MTID=m1b1d0c19ceabce58e2e6b2d9b9f0169c. The call-in information for the webinar on November 4, 2014, is phone number 1-800-779-8718; participant pass code 9570597. Participants can join the webinar at https://noaa-meets.webex.com/noaa-meets/j.php?MTID=mf7fa84affe231917855ca41093d776b5. Enter your name and email address, and click the “JOIN” button. Participants that have not used WebEx before will be prompted to download and run a plug-in program that will enable them to view the webinar. Presentation materials and other supporting information will be posted on the HMS Web site at: http://www.nmfs.noaa.gov/sfa/hms.

Request for Comments

A total of two public hearings and two webinars will be held to provide the opportunity for public comment on potential management measures. See Table 1 for dates, times and locations of public hearings. During the public comment period, NMFS also consulted with the HMS Advisory Panel on September 10-11, 2014 (79 FR 48125). There were opportunities for public comment during open sessions held each day of the Advisory Panel meeting. See the following Web site for additional details on the Advisory Panel meeting, including the agenda, presentations and outreach materials: http://www.nmfs.noaa.gov/sfa/hms/advisory_panels/hms_ap/index.html. Once available, transcripts of the Advisory Panel meeting will be posted as well.

NMFS has also requested time on the meeting agendas of the relevant Regional Fishery Management Councils (i.e., the Gulf of Mexico, South Atlantic, and Mid-Atlantic Fishery Management Councils), as well as with the Atlantic States Marine Fisheries Commission and the Gulf States Marine Fisheries Commission, to present information on the proposed rule and Draft Amendment 9. Information on the date and time of those presentations will be provided on the appropriate council agendas.

Table 1—Dates, Times and Locations of Upcoming Public Hearings
Date and time of public hearing | Meeting locations | Location contact information
September 24, 2014—2 p.m.-4 p.m | Webinar | 1-888-955-8966; Participant pass code: 5372339; https://noaa-meets.webex.com/noaa-meets/j.php?MTID=m1b1d0c19ceabce58e2e6b2d9b9f0169c.
October 7, 2014—5 p.m.-8 p.m | Toms River, NJ | Public Administration Building, Freeholders Meeting Room 119, 101 Hooper Ave., Toms River, NJ 08753, 732-929-2147.
October 15, 2014—5 p.m.-8 p.m | Manteo, NC | Dare Country Administration Building, Commissioner's Meeting Room, 954 Marshall C. Collins Drive, Manteo, NC 27954, (252) 475-5700.
November 4, 2014—2 p.m.-4 p.m | Webinar | 1-800-779-8718; Participant pass code: 9570597; https://noaa-meets.webex.com/noaa-meets/j.php?MTID=mf7fa84affe231917855ca41093d776b5.

Public Hearing Code of Conduct

The public is reminded that NMFS expects participants at public hearings, webinars, and the HMS Advisory Panel meeting to conduct themselves appropriately. At the beginning of each meeting, a representative of NMFS will explain the ground rules (e.g., alcohol is prohibited from the meeting room; attendees will be called to give their comments in the order in which they registered to speak; each attendee will have an equal opportunity to speak; attendees may not interrupt one another; etc.). NMFS representative(s) will structure the meeting so that all attending members of the public will be able to comment, if they so choose, regardless of the controversial nature of the subject(s). Attendees are expected to respect the ground rules, and those that do not will be asked to leave the meeting.

Authority: 16 U.S.C. 1801 et seq.

Dated: September 15, 2014.
Emily H. Menashes,
Acting Director, Office of Sustainable Fisheries, National Marine Fisheries Service.

[FR Doc. 2014-22266 Filed 9-17-14; 8:45 am]

BILLING CODE 3510-22-P